NATIONAL ARCHIVES AND RECORDS ADMINISTRATION

36 CFR Part 1206

RIN 3095-AB45

National Historical Publications and Records Commission Grant Program

AGENCY: National Archives and Records Administration (NARA).

ACTION: Proposed rule.

SUMMARY: NARA proposes to revise the regulations relating to the National Historical Publications and Records Commission (NHPRC) grant program to reflect changes in the operation of the NHPRC and to clarify provisions. Beginning in FY 2005, the NHPRC began publishing online grant announcements (linked to Grants.gov). This proposed rule will affect State and local government agencies; United States nonprofit organizations and institutions, including institutions of higher education; Federally acknowledged and State-recognized American Indian tribes or groups; and United States citizens applying for NHPRC grants as individuals.

DATES: Comments are due by April 18, 2006.

ADDRESSES: NARA invites interested persons to submit comments on this proposed rule. Please include “Attn: RIN 3095-AB45” and your name and mailing address in your comments. Comments may be submitted by any of the following methods:

• E-mail: http://www.regulations.gov. Follow the instructions for submitting comments.

• Fax: Submit comments by facsimile transmission to 301-837-0319.

• Mail: Send comments to Regulations Comments Desk (NPOL), Room 4100, Policy and Communications Staff, National Archives and Records Administration, 8601 Adelphi Road, College Park, MD 20740-6001.

• Hand Delivery or Courier: Deliver comments to 8601 Adelphi Road, College Park, MD.

FOR FURTHER INFORMATION CONTACT: Nancy Allard at 301-837-1477 or fax number 301-713-7270.

SUPPLEMENTARY INFORMATION: The NHPRC grants program regulations were last updated in 2002. This proposed rule makes the following substantive changes to those regulations:

• Clarifying and expanding the scope of eligible publications projects to include electronic editions;

• Clarifying the NHPRC's partnership with the States, including specific provisions for grant awards to the states to support statewide archival- and records-related services and regrants; and

• Changing application instructions to reflect the Government's e-grant initiatives, particularly the use of Web-based grant opportunity announcements and Grants.gov as a way to prepare and submit applications.

We have also removed or revised outdated provisions and other specific details of the application process that are covered in the grant announcements.

This proposed rule is a not significant regulatory action for the purposes of Executive Order 12866 and has not been reviewed by the Office of Management and Budget. As required by the Regulatory Flexibility Act, I certify that this rule will not have a significant impact on a substantial number of small entities. In fiscal year 2005 the NHPRC made grants to only 88 organizations and entities as defined in the Act, from the 137 applications submitted. The dollar value of all FY 2005 grants ranged from $2,419 to $264,887.

List of Subjects in 36 CFR Part 1206

Archives and records, Grants, Publications.

For the reasons set forth in the preamble, NARA proposes to revise part 1206 of title 36, Code of Federal Regulations, to read as follows:

Part 1206—NATIONAL HISTORICAL PUBLICATIONS AND RECORDS COMMISSION

Subpart A—General
Sec.
1206.1 How are these Questions and Answers formatted?
1206.2 What does this part cover?
1206.3 What terms have you defined?
1206.4 What is the purpose of the Commission?
1206.5 Who serves on the Commission?
1206.6 How do you organize the grant program?
1206.8 How do you operate the grant program?
1206.10 How do you make grant opportunities known?
1206.11 How may an applicant apply for an NHPRC grant?
1206.12 What are my responsibilities once I have received a grant?
Subpart B—Publications Grants
1206.20 What are the scope and purpose of publications grants?
1206.22 What type of proposal is eligible for a publications grant?
1206.24 What type of proposal is ineligible for a publications grant?
Subpart C—Records Grants
1206.30 What is the scope and purpose of records grants?
1206.32 What type of proposal is eligible for a records grant?
1206.34 What type of proposal is ineligible for a records grant?
Subpart D—State Records Program
1206.40 What is a State records program?
1206.41 What is a state historical records advisory board and how is it constituted?
1206.42 What is a State Coordinator?
1206.43 What are the duties of the deputy state coordinator?
1206.44 Who is eligible for subgrants?
1206.45 What rules govern subgrant distribution, cost sharing, grant administration, and reporting?
Subpart E—Applying for NHPRC Grants
1206.50 What types of funding and cost sharing arrangements does the Commission make?
1206.52 Does the Commission ever place conditions on its grants?
1206.54 Who may apply for NHPRC grants?
1206.56 When are applications due?
1206.58 How do I apply for a grant?
1206.60 What must I provide as a formal grant application?
1206.62 Who reviews and evaluates grant proposals?
1206.64 What formal notification will I receive, and will it contain other information?
Subpart F—Grant Administration
1206.70 Who is responsible for administration of NHPRC grants?
1206.72 Where can I find the regulatory requirements that apply to NHPRC grants?
1206.74 Do I need prior written approval for changes to the grant project?
1206.76 How do I obtain written approval for changes in my grant project?
1206.80 What reports am I required to make?
1206.82 What is the format and content of the financial report?
1206.84 What is the format and content of the narrative report?
1206.86 What additional materials must I submit with the final narrative report?
1206.88 Does the NHPRC have any liability under a grant?
1206.90 Must I acknowledge NHPRC grant support?

Authority: 44 U.S.C. 2104(a); 44 U.S.C. 2501-2506.

Subpart A—General

§ 1206.1 How are these Questions and Answers formatted?

As if you, the reader, were asking us, the National Historical Publications and Records Commission, these questions.

§ 1206.2 What does this part cover?

This part prescribes the procedures and rules governing the operation of the grant program of the National Historical Publications and Records Commission.

§ 1206.3 What terms have you defined?

(a) The terms Commission and NHPRC mean members of the National Historical Publications and Records Commission acting as a body.

(b) The term NHPRC staff refers to the Executive Director and the staff of the Commission or the Executive Director of the Commission.

(c) The term guidance refers to a non-binding document published on the NHPRC Web site to clarify or explain Commission policy or to provide procedural details.

(d) The term The Manual of Suggested Practices refers to The Manual of Suggested Practices for State Historical Records Advisory Boards. It is a type of guidance.

(e) The term grant opportunity announcement refers to a document published on the NHPRC Web site, on the Grants.gov Web site, and in the Federal Register that describes a type of grant offered, eligibility requirements, and application instructions.

(f) The term historical records means documentary material having permanent or enduring value, including manuscripts, personal papers, official records, maps, audiovisual materials, and electronic files.

(g) The term historical records repository means organizations whose mission is to acquire, preserve, and promote the use of historical records. They include archives, special collections, museums, and historical societies.

(h) The term State in §§ 1206.40 through 1206.42, means all 50 States of the Union, plus the District of Columbia, Puerto Rico, the U.S. Virgin Islands, Guam, American Samoa, and the Commonwealth of the Northern Mariana Islands.

(i) The term cost sharing means the financial contribution the applicant pledges to the total cost of a project. Cost sharing can include both direct and indirect expenses, provided by the applicant or by third-parties as in-kind or cash contributions, and any income earned directly by the project.

(j) The term direct costs means expenses that are attributable directly to the cost of a project, such as salaries, project supplies, travel expenses, equipment rented or purchased for the project or services procured for the project.

(k) The term indirect costs means costs incurred for common or joint objectives of an applicant's organization and therefore not attributable to a specific project or activity. Typically, indirect costs include items such as overhead for facilities maintenance and accounting services.

(l) The term board refers to a State historical records advisory board.

(m) The term coordinator means the coordinator of a State historical records advisory board.

§ 1206.4 What is the purpose of the Commission?

The National Historical Publications and Records Commission, a statutory body affiliated with the National Archives and Records Administration, supports a wide range of activities to preserve, publish, and encourage the use of primary documentary sources. Through our grant programs, training programs, and special projects, we offer advice and assistance to state and local government agencies, non-Federal nonprofit organizations and institutions, Federally-acknowledged or State-recognized Native American tribes or groups, and individuals committed to the preservation, publication, or use of United States documentary resources.

§ 1206.5 Who serves on the Commission?

Established by Congress in 1934, the Commission is a 15-member body, chaired by the Archivist of the United States and comprised of representatives of the three branches of the Federal Government and of professional associations of archivists, historians, documentary editors, and records administrators.

§ 1206.6 How do you organize the grant program?

We offer grants to support publications projects (Subpart B), and records projects (Subpart C). State grants (Subpart D) are made to designated state agencies for statewide archival services and may include subgrants to individuals and institutions. We also support a variety of professional development opportunities.

§ 1206.8 How do you operate the grant program?

(a) The Executive Director manages the program under Commission guidance and the immediate administrative direction of its Chairman, the Archivist of the United States.

(b) The Commission establishes grant program priorities as reflected in its Grant Opportunity Announcements and, from time-to-time, issues non-binding, clarifying guidance documents through the NHPRC Web site.

(c) To assure fair treatment of every application, all members of the Commission and its staff follow conflict-of-interest rules.

(d) The purpose and work plan of all NHPRC-funded grant projects must be in accord with current Commission program guidance as reflected in the Grant Opportunity Announcements.

(e) The Archivist of the United States makes the final grant award upon the recommendation of the Commission.

§ 1206.10 How do you make grant opportunities known?

(a) The Commission annually determines which grant opportunities it will offer, and establishes eligibility, application deadlines, and programmatic requirements.

(b) The NHPRC staff prepares grant opportunity announcements consisting of all information necessary to apply for each grant and publishes the announcements on the NHPRC Web site (http://www.archives.gov/nhprc) at least four months before the final application due date.

(c) The NHPRC staff also publishes notice of each announcement in the Federal Register and on http://www.Grants.gov, a Federal government Internet site widely available to the public, at least four months before the final application due date.

§ 1206.11 How may an applicant apply for an NHPRC grant?

Applicants may apply for a grant using Grants.gov or by using other electronic or paper forms and documents, according to the instructions in each announcement.

§ 1206.12 What are my responsibilities once I have received a grant?

(a) Comply with all Federal regulations related to grants administration.

(b) Comply with NHPRC grant announcements and other Commission guidance.

(c) Meet performance requirements defined in your grant application.

(d) Report on performance requirements defined in your grant application and other performance measures specified in the grant award.

(e) Comply with conditions set by the Commission according to § 1206.52.

Subpart B—Publications Grants

§ 1206.20 What are the scope and purpose of publications grants?

Publications grants support projects intended to make widely available those documentary source materials important to the study and understanding of United States history. In order to receive a publications grant, a project must intend to publish historical records of national value and interest.

§ 1206.22 What type of proposal is eligible for a publications grant?

(a) The Commission provides grants for publishing papers of United States leaders and historical records relating to outstanding events, topics, themes, or movements of national significance in United States history. These projects include the production of:

(1) Documentary editions that involve collecting, compiling, transcribing, editing, annotating, and publishing, either selectively or comprehensively, historical papers and records;

(2) Microfilm editions consisting of organized collections of images of original sources, usually without transcription and annotations;

(3) Electronic editions consisting of organized collections of images of original editions. Electronic editions may include transcriptions and/or annotations and other data to facilitate document discovery;

(4) Electronic editions of transcribed and annotated documents, including electronic republications of hard copy editions; and

(5) Any combination of editions specified in paragraphs (a)(1) through (a)(4) of this section.

(b) The Commission may also support projects to develop methods, tools, techniques, and practices to improve and advance the documentary editing profession in the United States, and to support projects that apply information technology to publishing projects.

(c) The Commission may also support subvention grants to nonprofit presses to help defray publication costs of NHPRC-supported or endorsed editions.

(d) The Commission may also support fellowships, institutes, and other professional development opportunities related to this program.

(e) Detailed programmatic requirements established by the Commission are found in the grant opportunity announcements.

§ 1206.24 What type of proposal is ineligible for a publications grant?

(a) We do not support:

(1) Historical research apart from what is necessary for editing documentary publications; or

(2) Documentary editing projects to publish the papers of someone who has been deceased for fewer than ten years.

(b) Other programmatic limitations established by the Commission are found in the grant opportunity announcements.

Subpart C—Records Grants

§ 1206.30 What is the scope and purpose of records grants?

(a) Records grants support projects designed to preserve and facilitate use of historical records of national, state, or local significance for the purpose of furthering an understanding and appreciation of United States history and assuring the rights of American citizens to free and equal access to government records.

(b) The Commission also supports projects to develop methods, tools, techniques, and practices to improve and advance the archival profession in the United States, and to support continuing education of archivists, records managers, and other keepers of historical records.

§ 1206.32 What type of proposal is eligible for a records grant?

(a) The Commission provides grants to historical records repositories for locating, preserving and encouraging use of records held by state, local, and other governmental units and private archives and collections of papers maintained in nonfederal, nonprofit repositories and special collections relating to the study of American history.

(b) The Commission provides support to historical records repositories, other institutions, and individuals for:

(1) Advancing the state of the art in archival and records management and in the long-term maintenance of, and easy access to, authentic electronic records;

(2) Promoting cooperative efforts among institutions and organizations in archival and records management;

(3) Improving the knowledge, performance, and professional skills of those who work with historical records; and

(4) Continuing archival education, including fellowships, institutes, and symposia.

§ 1206.34 What type of proposal is ineligible for a records grant?

In addition to other programmatic limitations established by the Commission as found in the grant opportunity announcements, we do not support proposals:

(a) For building projects;

(b) To purchase manuscripts or historical records;

(c) For projects involving substantial work with artifacts, library materials, or works of art; or

(d) For exhibits or celebrations, reenactments, and other observations of historical events.

Subpart D—State Records Program

§ 1206.40 What is a State records program?

(a) Each State is eligible to receive NHPRC grants to support the work of the State Historical Records Advisory Board (Board); to operate statewide historical records services; and to make subgrants to eligible organizations and individuals within the state in support of historical records activities.

(b) Boards review and comment on applications for NHPRC records projects grants submitted from their states, according to The Manual of Suggested Practices.

§ 1206.41 What is a state historical records advisory board and how is it constituted?

(a) Responsibilities. The Board is the central advisory body for historical records coordination within the state and for NHPRC state and local records projects within the state. The Board engages in planning; it develops, revises, and submits to the Commission a state plan including priorities for state historical records projects following The Manual of Suggested Practices. The Board reviews all state and local records projects within the state and makes recommendations for state projects to the Commission.

(b) Appointments. Each state participating in the NHPRC state program must adopt an appointment process and appoint a Board following The Manual of Suggested Practices. The appointment process and membership must be reported at least annually to the Commission. A majority of members should have recognizable experience in the administration of records, manuscripts, or archives. The Board should be as broadly representative as possible of the public and private archives, records offices, and research institutions and organizations in the state.

§ 1206.42 What is a State Coordinator?

(a) Duties. The state coordinator (coordinator) is the officer responsible for the NHPRC state program. He or she reports the state Board appointment process, membership and recommendations to the NHPRC at least on an annual basis and may serve as chair of the Board and may perform other duties following applicable state statute or regulation and The Manual of Suggested Practices.

(b) Appointment. The coordinator should be the full-time professional official in charge of the state archival program or agency, unless otherwise specified in state statute or regulation. The coordinator serves ex officio, unless otherwise specified in state statute or regulation. The coordinator is not deemed to be an official or employee of the Federal Government and receives no Federal compensation for such service.

(c) Replacement. In the event that the coordinator position is vacant or the coordinator is otherwise unable to serve, a deputy coordinator, if one has been designated, serves as acting coordinator until another coordinator is appointed. In the absence of a deputy coordinator, the state board may select an acting coordinator until another coordinator is appointed, in order to conduct the necessary business of the Board.

§ 1206.43 What are the duties of the deputy state coordinator?

The coordinator may designate a deputy state coordinator to assist in carrying out the duties and responsibilities of the coordinator and to serve as an acting coordinator at the coordinator's direction or upon the coordinator's resignation or inability to serve.

§ 1206.44 Who is eligible for subgrants?

All organizations and individuals located within a State that has an active State Historical Records Board and defined in § 1206.54 may be eligible as determined by the Board.

§ 1206.45 What rules govern subgrant distribution, cost sharing, grant administration, and reporting?

(a) The Commission will annually establish guidance published in the grant opportunity announcement for State grants regarding:

(1) The distribution of regrant funds;

(2) Cost sharing and matching requirements; and

(3) Reporting.

(b) Each participating state is responsible for ensuring that the subgrantees comply with Federal grant administration and reporting requirements.

(c) Each participating state must annually prepare a report to the NHPRC on its subgrant program, following the requirements outlined in § 1206.80.

Subpart E—Applying for NHPRC Grants

§ 1206.50 What types of funding and cost sharing arrangements does the Commission make?

(a) Types of grants.

(1) Matching grant. A matching grant is a Federal grant awarded only after the applicant raises its share of nonfederal support for a project. We will only match funds raised from nonfederal sources, either monies provided by the applicant's own institution specifically for the project or from a nonfederal third-party source. The Commission does not ordinarily make matching grants.

(2) Outright grant. Outright grants are those awards we make without any matching requirement. However, outright grants usually include a cost-sharing requirement.

(b) Cost sharing.

(1) Cost sharing consists of the applicant's contribution to the cost of the project. The Commission ordinarily expects the applicant to provide cost sharing in an amount equal to the amount of the Federal grant award. Exceptions to the one-to-one cost sharing requirement may be set by the Commission in specific grant opportunity announcements.

(2) Cost sharing may include cash or in-kind contributions provided by the applicant or by a non-Federal third party.

(3) We prefer the applicant cover indirect costs through cost sharing.

§ 1206.52 Does the Commission ever place conditions on its grants?

Yes, the Commission may place certain conditions on its grants. We describe applicable conditions in each grant opportunity announcement.

§ 1206.54 Who may apply for NHPRC grants?

The Commission will consider applications from State government agencies in states where there is an active Board, local government agencies, United States nonprofit organizations and institutions, including institutions of higher education, Federally-acknowledged and State-recognized American Indian tribes or groups, and United States citizens applying as individuals. Federal agencies are not eligible to apply.

§ 1206.56 When are applications due?

(a) The Commission generally meets twice a year, and we consider grant proposals postmarked by the deadlines set by the Commission and published in each grant opportunity and through Grants.gov. All proposals must be postmarked or submitted by those deadlines.

(b) Some State boards have established pre-submission review deadlines for records proposals; further information is available from each state coordinator.

§ 1206.58 How do I apply for a grant?

(a) Contact the NHPRC staff. We encourage you to discuss your proposal through correspondence, by phone, or in person with NHPRC staff.

(b) Contact your State Historical Records Advisory Board as appropriate. We encourage you to discuss your proposal with your State historical records coordinator at all stages of your proposal's development and before you submit the proposal.

(1) Contact is not necessary if:

(i) Your proposal is for national publications or subvention projects;

(ii) You are an American Indian applying as an individual or applying as an American Indian tribe; or

(iii) Your project will largely take place in more than one state, or your project is primarily of national significance.

(2) You will find the staff contacts and a list of State historical records coordinators on our Web site at http://www.archives.gov/nhprc.

(3) The Commission encourages you to submit electronic applications and may at its discretion require electronic applications. Application options are included with each grant opportunity announcement.

§ 1206.60 What must I provide as a formal grant application?

The forms and other documents you must submit are listed with each grant opportunity announcement on the NHPRC Web site. OMB Control Number 3095-0013 has been assigned to this information collection.

§ 1206.62 Who reviews and evaluates grant proposals?

(a) State boards. State historical records advisory boards may evaluate your proposal according to Commission grant opportunity announcements.

(b) Peer reviewers. The NHPRC staff may ask external peer reviewers to evaluate the proposal according to Commission grant announcements.

(c) Other reviewers. The Commission staff may require additional reviews.

(d) NHPRC staff. NHPRC staff analyzes the reviewers' comments, and considers the appropriateness of the project toward fulfilling Commission goals, the proposal's completeness and conformity to application requirements. The staff, through a questions letter or e-mail to you, raises issues and concerns and allows you the opportunity to respond. The staff makes recommendations to the Commission.

(e) The Commission. The Commission deliberates on all eligible proposals and recommends to the Archivist of the United States what action to take on each (fund, partially fund, endorse, reject, resubmit). By statute the Archivist chairs the Commission and has final authority to make or deny a grant.

§ 1206.64 What formal notification will I receive, and will it contain other information?

(a) The formal grant award document is sent to successful applicants from the Archivist of the United States. The document and attachments specify terms of the grant. NHPRC staff notifies project directors informally of awards and any conditions soon after the Commission recommends the grant to the Archivist of the United States.

(b) The grant period begins and ends on the dates specified in the award document.

Subpart F—Grant Administration

§ 1206.70 Who is responsible for administration of NHPRC grants?

The grantee institution and the institution-designated project director share primary responsibility for the administration of grants. In the case of grants made to individuals, the project director has sole responsibility for the administration of the grant.

§ 1206.72 Where can I find the regulatory requirements that apply to NHPRC grants?

(a) In addition to this part 1206, NARA has issued other regulations that apply to NHPRC grants in 36 CFR ch. XII, subchapter A. NARA also applies the principles and standards in the following Office of Management and Budget (OMB) Circulars for NHPRC grants:

(1) OMB Circular A-21, “Cost Principles for Educational Institutions”;

(2) OMB Circular A-87, “Cost Principles for State, Local and Indian Tribal Governments”;

(3) OMB Circular A-122, “Cost Principles for Nonprofit Organizations”; and

(4) OMB Circular A-133, “Audits of States, Local Governments, and Nonprofit Organizations.”

(b) The OMB Circulars are available at http://www.whitehouse.gov/omb/circulars/index.html.

(c) Additional policy guidance related to Title VI of the Civil Rights Act of 1964, regarding persons with limited English proficiency, is provided in Commission guidance at http://www.archives.gov/nhprc/ and from the NHPRC staff.

§ 1206.74 Do I need prior written approval for changes to the grant project?

You must obtain prior written approval from the Commission for most changes in the grant project and terms of the grant. Detailed instructions are found in How to Administer an NHPRC Grant available at http://www.archives.gov/NHPRC or from the NHPRC staff.

§ 1206.76 How do I obtain written approval for changes in my grant project?

(a) Requests for changes in the project must be submitted in writing and signed by grantee's authorized representative. The signed, written response of the Commission's Executive Director, or the Executive Director's designee, will constitute approval for the change.

(b) Requests for extensions of the grant period should be signed by the grantee's authorized representative and submitted not more than two months before the scheduled end of the grant period. We will not allow extensions unless a project is up-to-date in its submission of financial and narrative reports.

§ 1206.80 What reports am I required to make?

(a) Grant recipients are generally required to submit annual financial status reports and semi-annual narrative progress reports, as well as final financial and narrative reports at the conclusion of the grant period. The grant award document will specify the dates on which your reports are due. In order to fulfill its oversight and monitoring responsibilities, the NHPRC or Commission may require additional reports or information at any time during the grant. OMB Control Number 3095-0013 has been assigned to this information collection.

(b) Detailed reporting requirements are found in How to Administer an NHPRC Grant available at http://www.archives.gov/NHPRC or from the NHPRC staff.

§ 1206.82 What is the format and content of the financial report?

Grant recipients must submit financial reports on Standard Form 269, if there is program income to report, or Standard Form 269A (Short Form), and have them signed by the grantee's authorized representative or by an appropriate institutional fiscal officer. If cost-sharing figures are less than 80 percent of the amount anticipated in the project budget, you must explain the reason for the difference.

§ 1206.84 What is the format and content of the narrative report?

(a) Interim narrative reports should state briefly the performance objectives and activities for the entire grant and then focus on those accomplished during the reporting period. The report should include a summary of project activities; whether the project proceeded on schedule; any revisions of the work plan, staffing pattern, or budget; any Web address created by the project; and any other press releases articles or presentations relating to the grant project or its products. It should include an analysis of the objectives met during the reporting period and any objectives for the period that were not accomplished. For documentary editing projects, it also must include information about the publication of volumes and the completion of finding aids, as well as any work that is pending with publishers.

(b) The final report must provide a detailed assessment of the entire project, following the format in paragraph (a) of this section, including whether the performance objectives and goals set in the original proposal were realistic; whether there were unpredicted results or outcomes; whether the project encountered unexpected problems and how you faced them; and how you could have improved the project. You must discuss the project's impact, if any, on the grant-receiving institution and others. You must indicate whether all or part of the project activities will be continued after the end of the grant, whether any of these activities will be supported by institutional funds or by grant funds, and if the NHPRC grant was instrumental in obtaining these funds.

(c) The project director must sign final narrative reports.

§ 1206.86 What additional materials must I submit with the final narrative report?

You must submit the materials determined by the Commission as found in the NHPRC grant announcements or specified in the grant award.

§ 1206.88 Does the NHPRC have any liability under a grant?

No, the National Archives and Records Administration (NARA) and the Commission cannot assume any liability for accidents, illnesses, or claims arising out of any work undertaken with the assistance of the grant.

§ 1206.90 Must I acknowledge NHPRC grant support?

Yes, grantee institutions, grant project directors, or grant staff personnel may publish results of any work supported by an NHPRC grant without review by the Commission; however, publications or other products resulting from the project must acknowledge the assistance of the NHPRC grant and all copies paid for by grant funds must be distributed at a reasonable cost.

Dated: February 10, 2006.
Allen Weinstein,
Archivist of the United States.

[FR Doc. E6-2303 Filed 2-16-06; 8:45 am]

BILLING CODE 7515-01-P